FEDERAL TRADE COMMISSION

16 CFR Part 455

[Project No. P087604]

Used Motor Vehicle Trade Regulation Rule

AGENCY: Federal Trade Commission.

ACTION: Reopening of period within which to submit comments in response to request for public comments.

SUMMARY: On July 21, 2008, the Federal Trade Commission (“FTC” or “Commission”) published a Federal Register document soliciting public comments in connection with its review of the Used Motor Vehicle Trade Regulation Rule (“Used Car Rule” or “Rule”). The document stated that comments must be received by September 19, 2008. In response to a request to extend the comment period received on September 12, 2008, the Commission has determined to reopen and extend the comment period until November 19, 2008.

DATES: Comments addressing the Used Car Rule must be received on or before November 19, 2008.

ADDRESSES: Interested parties are invited to submit written comments electronically or in paper form. Comments should refer to “Used Car Regulatory Review, Matter No. P087604” to facilitate the organization of comments. Comments containing material for which confidential treatment is requested must be filed in paper form, must be clearly labeled “Confidential,” and must comply with Commission Rule 4.9(c).¹ Comments should not include any sensitive personal information, such as an individual’s Social Security Number; date of birth; driver’s license number or other state identification number or foreign country equivalent; passport number; financial account number; or credit or debit card number. Comments also should not include any sensitive health information, such as medical records and other individually identifiable health information. In addition, comments should not include any “[t]rade secrets and commercial or financial information obtained from a person and privileged or confidential. . . .,” as provided in Section 6(f) of the FTC Act, 15 U.S.C. 46(f), and Commission Rule 4.10(a)(2), 16 CFR 4.10(a)(2) (2008).

¹ Commission Rule 4.2(d), 16 CFR 4.2(d). The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

Because paper mail in the Washington area, and specifically to the FTC, is subject to delay due to heightened security screening, please consider submitting your comments in electronic form. Comments filed in electronic form should be submitted by using the following weblink: (https://secure.commentworks.com/ftc-UsedCarRuleReview) (and following the instructions on the web-based form). To ensure that the Commission considers an electronic comment, you must file it on the web-based form at the weblink: (https://secure.commentworks.com/ftc-UsedCarRuleReview). If this document appears at http://www.regulations.gov, you may also file an electronic comment through that website. The Commission will consider all comments that regulations.gov forwards to it. You may also visit the FTC website at http://www.ftc.gov/opa/2008/07/ucr.shtm to read the Federal Register document announcing the request for public comments and the news release describing it.

A comment filed in paper form should include the “Used Car Rule Regulatory Review, P087604” reference both in the text and on the envelope, and should be mailed or delivered to the following address: Federal Trade Commission, Office of the Secretary, Room H-135 (Annex H), 600 Pennsylvania Avenue, N.W., Washington, D.C. 20580.

The FTC Act and other laws the Commission administers permit the collection of public comments to consider and use in this proceeding as appropriate. The Commission will consider all timely and responsive public comments that it receives, whether filed in paper or electronic form. Comments received will be available to the public on the FTC website, to the extent practicable, at (http://www.ftc.gov/os/publiccomments.shtm). As a matter of discretion, the FTC makes every effort to remove home contact information for individuals from the public comments it receives before placing those comments on the FTC website. More information, including routine uses permitted by the Privacy Act, may be found in the FTC’s privacy policy, at (http://www.ftc.gov/ftc/privacy.shtm).

FOR FURTHER INFORMATION CONTACT: John C. Hallerud, Attorney, Midwest Region, Federal Trade Commission, 55 West Monroe Street, Suite 1825, Chicago, Illinois 60603, (312) 960-5615.

SUPPLEMENTARY INFORMATION: The Commission’s July 21, 2008 Federal Register document seeks comments on the Rule’s costs, benefits, and effectiveness. The document seeks comments on whether the Rule should permit used car dealers to use a single bilingual Buyers Guide and, if so, on how to design a bilingual Buyers Guide. The document also asks for comments on the Buyers Guide’s pre-printed list of systems and major defects. In addition, the document solicits comments on whether the Rule should be revised to permit dealers to use alternative Buyers Guides when disclosing manufacturer’s warranties and other third-party warranties.

On September 12, 2008, the Commission received a joint letter from Consumer Action, Consumers for Auto Reliability and Safety, the Consumer Federation of America, the National Association of Consumer Advocates, and the National Consumer Law Center requesting that the comment period be extended for sixty days. Among other reasons supporting the request, these organizations cite their need to conduct research to address the numerous questions raised in the Commission’s Federal Register document and changes that have occurred in the automotive marketplace and information technologies since the Commission last reviewed the Rule. The organizations argue that they will be able to present more carefully considered comments if provided an additional sixty days to comment.

Based on the arguments raised in the joint letter, the Commission believes that an extension of the initial sixty-day comment period until November 19, 2008 is reasonable. The additional time should enable the organizations that sent the letter and other commenters to submit detailed and thoughtful comments in response to the document. Accordingly, the Commission has decided to extend the comment period set forth in the July 21, 2008 Federal Register document until November 19, 2008.

By direction of the Commission.

Donald S. Clark
Secretary

[FR Doc. E8-22415 Filed 9-24-08: 8:45 am]

BILLING CODE 6750-01-S